DEPARTMENT OF COMMERCE

National Oceanic and Atmospheric Administration

50 CFR Part 635

[Docket No. 241010-0271]

RIN 0648-BK89

Atlantic Highly Migratory Species; Updates Regarding Sea Turtle Careful Release Equipment and Techniques

AGENCY: National Marine Fisheries Service (NMFS), National Oceanic and Atmospheric Administration (NOAA), Commerce.

ACTION: Final rule.

SUMMARY: In this final rule, NMFS updates the Atlantic highly migratory species (HMS) regulations regarding the sea turtle safe handling and release requirements and equipment in the HMS pelagic and bottom longline fisheries. This action is based in part on two technical memoranda published by NMFS' Southeast Fisheries Science Center (SEFSC). The regulatory updates replace some of the more technical terms with those that are more commonly used, add more detail to make the regulations more understandable, and add additional tools or options for fishermen to use to safely handle and release sea turtles. In addition, this final rule simplifies the regulations by removing redundancies, making minor changes in formatting, and revising wording to clarify responsibility of implementation.

DATES: This final rule is effective November 29, 2024.

ADDRESSES: Additional information related to this final rule, including electronic copies of the supporting documents are available from the HMS Management Division website at: https://www.fisheries.noaa.gov/topic/atlantic-highly-migratory-species, at: https://www.regulations.gov (enter “NOAA-NMFS-2024-0046” in the Search box), or by contacting Becky Curtis at becky.curtis@noaa.gov. The referenced technical memoranda are available from the HMS Management Division website at: https://www.fisheries.noaa.gov/resource/outreach-materials/atlantic-highly-migratory-species-safe-handling-release-and. These documents are also available upon request from the HMS Management Division by phone at 301-427-8503.

FOR FURTHER INFORMATION CONTACT: Becky Curtis, becky.curtis@noaa.gov, Steve Durkee, steve.durkee@noaa.gov or Karyl Brewster-Geisz, karyl.brewster-geisz@noaa.gov; 301-427-8503.

SUPPLEMENTARY INFORMATION:

Background

Atlantic HMS fisheries are managed under the 2006 Consolidated HMS Fishery Management Plan (FMP) and its amendments, pursuant to the Magnuson-Stevens Fishery Conservation and Management Act (Magnuson-Stevens Act) (16 U.S.C. 1801 et seq.) and consistent with the Atlantic Tunas Convention Act (ATCA) (16 U.S.C. 971 et seq.). HMS implementing regulations are at 50 CFR part 635. The sea turtle handling and release requirements and equipment are located at § 635.21(b) through (d).

This final rule is issued pursuant to, and subject to requirements of, the Magnuson-Stevens Act. Specifically in regard to the sea turtle safe handling and release measures implemented in this rule, 16 U.S.C. 1851(a)(9) requires NMFS to implement fishery management measures that minimize bycatch, and to the extent bycatch cannot be avoided, minimize the mortality of bycatch. The Magnuson-Stevens Act defines bycatch as fish which are harvested but which are not sold or kept for personal use at 16 U.S.C. 1802(2) (see also 16 U.S.C. 1802(12) (defining “fish”)). Sea turtles are listed and protected under the Endangered Species Act and cannot be sold or kept for personal use (see 16 U.S.C. 1538(a)(1) and 16 U.S.C. 1533(d)).

Background information about the need for regulatory updates to modify the sea turtle handling and release requirements and equipment and specific examples of updates made under this action were provided in the preamble to the proposed rule (89 FR 24416, April 8, 2024) and are not repeated here. In summary, two technical memoranda were published by the SEFSC in 2019: NMFS-SEFSC TM735: “Careful Release Protocols for Sea Turtle Release with Minimal Injury,” and NMFS-SEFSC TM738: “Design Standards and Equipment for Careful Release of Sea Turtles Caught in Hook-and-Line Fisheries.” NMFS decided that it would be helpful to revise the existing regulations in light of the 2019 technical memoranda. Based in part on those memoranda, this final rule modifies the regulations by: (1) adding additional options for tools and procedures for fishermen to use to safely handle and release sea turtles; (2) replacing some of the more technical terms with those that are more commonly used; (3) adding more detail to make the regulations more understandable; and (4) simplifying the regulations by removing redundancies. NMFS received five written comments during the public comment period for the proposed rule, which closed on May 8, 2024. The comments received, and responses to those comments, are summarized in the Response to Comments section. No changes to the final rule are planned in response to the comments received. However, one minor change from the proposed rule is outlined in the Changes from Proposed Rule section.

Under this final rule, fishermen are able to continue using existing, approved sea turtle bycatch mitigation equipment. The final rule also provides additional tool and procedural options that fishermen may use to meet the sea turtle safe handling and release requirements.

Response to Comments

Written comments can be found at: https://www.regulations.gov; type “NOAA-NMFS-2024-0046” in the Search box. Below, NMFS summarizes and responds to the comments made on the proposed rule during the comment period. Comments covering the same topics were consolidated.

Comment 1: NMFS received multiple comments expressing support for the proposed update of sea turtle careful handling and release regulations. Commenters noted that the updates would improve outcomes for incidentally-caught sea turtles released by fishermen and improve clarity of the sea turtle safe handling and release regulations, improve awareness of and confidence in sea turtle release techniques, and, due to the additional approved tools, reduce instances where the required tools are forgotten or not on hand.

Response: NMFS agrees that the proposed changes would provide clarity regarding sea turtle safe handling and release requirements. Additionally, the proposed changes will increase flexibility for complying with these requirements.

Comment 2: NMFS received one comment expressing concerns about the cost of the new, optional tools that would be authorized for sea turtle safe handling techniques, and whether that cost might hinder adoption of the new equipment.

Response: The additional tools that would be authorized are strictly optional and not necessary for regulatory compliance. Instead, the additional tools provide fishermen additional flexibility to comply with the handling and release requirements in a manner that maximizes the efficacy of the operations on their vessel. If fishery participants decide not to purchase the additional tools due to their cost, they can remain in compliance by carrying the tools that are already approved under the current regulations.

Comment 3: NMFS received multiple comments on topics that reach beyond the minor regulatory updates and sea turtle bycatch issues in the proposed rule. One commenter mentioned that additional actions should be taken to prevent bycatch of sea turtles, including restricting fishing activities based on water temperature, reducing soak times, and changing fishing techniques and equipment. Another commenter suggested that all longline fishing for HMS be banned. Finally, another commenter focused on wind energy production and its potential threats to birds and turtles.

Response: NMFS considers these comments to be outside the scope of the current rulemaking. The focus of this rule is to update current sea turtle safe handling and release requirements to more clearly describe safe handling techniques, update the names of some required tools, approve additional tools for safe handling and release procedures, and to simplify regulations by removing redundancies, and making minor changes to clarify responsibility of implementation.

Changes From the Proposed Rule

No changes were made from the proposed rule in response to public comments. However, in this final rule, the term “comatose” has been replaced with “unresponsive” when referring to turtles that must be brought on board for gear removal. This change more accurately describes the state of the turtle and matches other agency resuscitation guidance.

Classification

As described in the statutory information in the Background section above, NMFS is issuing this rule pursuant to the Magnuson-Stevens Act, including sections 301(a)(9) and 304(g). The NMFS Assistant Administrator has determined that the final rule is consistent with the 2006 Consolidated HMS FMP and its amendments, other provisions of the Magnuson-Stevens Act, ATCA, and other applicable law.

This final rule has been determined to be not significant for purposes of Executive Order 12866.

The Chief Council for Regulation of the Department of Commerce certified to the Chief Council for Advocacy of the Small Business Administration that the proposed rule, if adopted, would not have a significant economic impact on a substantial number of small entities. No comments were received regarding this certification. As a result, a regulatory flexibility analysis was not required and none was prepared. For Regulatory Flexibility Act (RFA) compliance purposes, NMFS established a small business size standard of $11 million in annual gross receipts for all businesses in the commercial fishing industry (North American Industry Classification System (NAICS) 11411). The Small Business Administration (SBA) has established size standards for all other major industry sectors in the United States, including the scenic and sightseeing transportation (water) sector (NAICS code 487210), which includes for-hire (charter/party boat) fishing entities. The SBA has defined a small entity under the scenic and sightseeing transportation (water) sector as one with average annual receipts (revenue) of less than $14 million. NMFS considers all HMS permit holders to be small entities because they had average annual receipts of less than their respective sector's standard of $11 million and $14 million. Regarding those entities that would be directly affected by the measures under this final rule, the average revenue for the entire Atlantic shark commercial fishery from 2017 through 2021 is $2,579,228, which is well below the NMFS small business size standard for commercial fishing businesses of $11 million. The average annual revenue per active pelagic longline vessel in HMS fisheries is estimated to be $222,000, also well below the small business size standard. While the entire HMS pelagic longline fishery (approximately 82 active vessels) produced an estimated $18.2 million in revenue in 2020, no single pelagic longline vessel has exceeded $11 million in revenue in recent years. Additionally, HMS bottom longline commercial fishing vessels typically earn less revenue than pelagic longline vessels and, thus, would also be considered small entities. While all entities directly affected by the measures under this final rule are considered small entities, significant economic impacts are not expected and a regulatory flexibility analysis was not required and none was prepared for this final rule.

This final rule contains no information collection requirements under the Paperwork Reduction Act of 1995.

List of Subjects in 50 CFR Part 635

Fisheries, Fishing, Fishing vessels, Foreign relations, Imports, Penalties, Reporting and recordkeeping requirements, Statistics, Treaties.

Dated: October 21, 2024.
Samuel D. Rauch III,
Deputy Assistant Administrator for Regulatory Programs, National Marine Fisheries Service.

For the reasons set out in the preamble, NMFS amends 50 CFR part 635 to read as follows:

PART 635—ATLANTIC HIGHLY MIGRATORY SPECIES

1. The authority citation for part 635 continues to read as follows:

Authority: 16 U.S.C. 971 et seq.; 16 U.S.C. 1801 et seq.

2. In § 635.21:

a. Revise paragraphs (b)(3) and (c)(2)(iv)(C);

b. Remove paragraphs (c)(2)(iv)(D) through (G); and

c. Revise paragraphs (c)(5) introductory paragraph, (c)(5)(i)(B) through (L), (c)(5)(i)(M)(1) and (2), (c)(5)(ii)(A) through (C), (c)(5)(iii) introductory text, and (d)(2) introductory text.

The revisions read as follows:

§ 635.21 Gear operation and deployment restrictions.

* * * * *

(b) * * *

(3) When a marine mammal or sea turtle is hooked or entangled by pelagic or bottom longline gear, the owner and operator of the vessel must immediately release the animal, retrieve the pelagic or bottom longline gear, and move at least 1 nmi (2 km) from the location of the incident before resuming fishing. Similarly, when a smalltooth sawfish is hooked or entangled by bottom longline gear, the operator of the vessel must immediately release the animal, retrieve the bottom longline gear, and move at least 1 nmi (2 km) from the location of the incident before resuming fishing. Reports of marine mammal entanglements must be submitted to NMFS consistent with regulations in § 229.6 of this title.

* * * * *

(c) * * *

(2) * * *

(iv) * * *

(C) All sea turtle bycatch mitigation measures specified in paragraph (c)(5) of this section, except for the mitigation measures specified in paragraphs (c)(5)(iii)(B) and (C) of this section, as these paragraphs specify bait, hook size, and hook type requirements for vessels fishing outside the NED as defined in § 635.2. Instead, persons on board the vessel must comply with hook size and type requirements in paragraph (c)(2)(iv)(A) of this section and bait restrictions in paragraph (c)(2)(iv)(B) of this section.

* * * * *

(5) The owner and operator of a vessel permitted or required to be permitted under this part and that has pelagic longline gear on board must undertake the following sea turtle bycatch mitigation measures:

(i) * * *

(B) Long-handled dehooker for internal hooks. A long-handled dehooking device is intended to remove internal hooks from sea turtles that cannot be boated. It should also be used to engage a loose hook when a turtle is entangled but not hooked, and line is being removed. The design must shield the point of the hook and prevent the hook from re-engaging during the removal process. One long-handled device, meeting the minimum design standards as described below, is required on board to remove internal hooks. The minimum design standards are as follows:

(1) Hook removal device. Marine-grade stainless steel (316 L or 304 L) or similar (i.e., designed to resist corrosion during exposure to saltwater) must be used for all components. The hook removal device must be constructed of three-sixteenths to five-sixteenths of an inch (4.76-7.94 mm) marine-grade stainless steel and have a dehooking end no larger than 1⅞-inch (4.76-cm) outside diameter. The device must securely engage and control the leader while shielding the point of the hook to prevent the hook from re-engaging during removal. The hook removal device must not have any unprotected points (including blunt ones), as these could cause injury to the mouth and esophagus during hook removal. The device must be of a size appropriate to secure the range of hook sizes and styles used in the pelagic longline fishery targeting swordfish and tuna.

(2) Extended reach handle. The dehooking end must be securely fastened to an extended reach handle or pole with a minimum length equal to or greater than 150 percent of the height of the vessel's freeboard, or 6 ft (1.83 m), whichever is greater. It is recommended, but not required, that the handle break down into sections. The handle must be sturdy and strong enough to facilitate the secure attachment of the hook removal device.

(C) Long-handled dehooker for external hooks. A long-handled dehooker, meeting the minimum design standards, is required on board for use on externally hooked sea turtles that cannot be boated. The long-handled dehooker for internal hooks described in paragraph (c)(5)(i)(B) of this section meets this requirement. The minimum design standards are as follows:

(1) Hook removal device. Marine-grade stainless steel (316 L or 304 L) or similar (i.e., designed to resist corrosion during exposure to saltwater) must be used for all components on any style of long-handled dehooker. If utilizing a wire-style dehooker (e.g., a pigtail or J-style dehooker), the long-handled dehooker must be constructed of three-sixteenths to five-sixteenths of an inch (4.76-7.94 mm) marine-grade stainless steel. All long-handled dehookers must have a dehooking end no larger than 1⅞-inch (4.76-cm) outside diameter. Smaller dehooking ends may be appropriate when encountering small turtles. A 5-inch (12.7-cm) tube T-handle of 1-inch (2.54-cm) outside diameter is recommended, but not required. The design must be such that a fish hook can be rotated out, without pulling it out at an angle, as described in paragraphs (c)(5)(ii)(B) and (C) of this section, and in the NMFS-SEFSC TM-735 Careful Release Protocols. The dehooking end must be blunt with all edges rounded. The device must be of a size appropriate to secure the range of hook sizes and styles used in the pelagic longline fishery targeting swordfish and tuna.

(2) Extended reach handle. The dehooking end must be securely fastened to an extended reach handle or pole. The handle must be a minimum length equal to or greater than 150 percent of the height of the vessel's freeboard or 6 ft (1.83 m), whichever is greater.

(D) Long-handled device to pull an “inverted V.” This tool is used to pull a “V” in the fishing line when implementing the “inverted V” dehooking technique, as described in paragraph (c)(5)(ii)(C) of this section and in the NMFS-SEFSC TM-735 Careful Release Protocols, for disentangling and dehooking entangled sea turtles. One long-handled device to pull an “inverted V”, meeting the minimum design standards, is required on board. If a 6 ft (1.83 m) or longer J-style dehooker is used to comply with paragraph (c)(5)(i)(C) of this section, it will also satisfy this requirement. Minimum design standards are as follows:

(1) Hook end. This device, such as a standard boat hook, gaff, or long-handled J-style dehooker must be constructed of stainless steel or aluminum. A sharp point, such as on a gaff hook, is to be used only for holding the monofilament fishing line and must never contact the sea turtle.

(2) Extended reach handle. The handle must have a minimum length equal to or greater than 150 percent of the height of the vessel's freeboard, or 6 ft (1.83 m), whichever is greater. The handle must be sturdy and strong enough to facilitate the secure attachment of the gaff hook.

(E) Boating the turtle. A device to bring incidentally caught sea turtles aboard the vessel must be carried on board the vessel to facilitate safe handling of sea turtles by allowing them to be brought on board for fishing gear removal without causing further injury to the animal. Sea turtles must never be brought on board without a net or hoist. Using the involved fishing gear to raise the turtle can result in serious injury. The following devices are options to meet this requirement.

(1) Dipnet. The dipnet must have a sturdy net hoop of at least 31 inches (78.74 cm) of inside diameter and a bag depth of at least 38 inches (96.52 cm) to accommodate turtles below 3 ft (91.44 cm) carapace length. The bag mesh openings may not exceed 3 inches (7.62 cm) bar measure, defined as the non-stretched distance between a side knot and a bottom knot of a net mesh (also known as the square mesh measurement). There must be no sharp edges or burrs on the hoop, or where the hoop is attached to the handle. The dipnet hoop must be securely fastened to an extended reach handle or pole with a minimum length equal to, or greater than, 150 percent of the height of the vessel's freeboard, or at least 6 ft (1.83 m), whichever is greater. The handle must be made of a rigid material strong enough to facilitate the sturdy attachment of the net hoop and able to support a minimum of 100 lb (45.36 kg) without breaking or significant bending or distortion. It is recommended, but not required, that the extended reach handle break down into sections.

(2) Collapsible hoop net. The collapsible hoop net frame must be constructed of stiff wire cable that coils to compress the size for storage. This device must have a minimum 31-inch (78.74-cm) inside diameter and a bag depth of at least 38 inches (96.52 cm) to accommodate turtles up to 3 ft (91.44 cm) in straight carapace length. The bag mesh openings may not exceed 3 inches (7.62 cm) bar measure, defined as the non-stretched distance between a side knot and a bottom knot of a net mesh (also known as the square mesh measurement). There must be no sharp edges or burrs on the hoop. The device must be capable of lifting at least 100 lb (45.36 kg). No extended reach handle is needed on this type of net, although the rope handle length must be 6 ft (1.83 m) or 150 percent of freeboard height, whichever is greater.

(3) Turtle hoist. A turtle hoist consists of a supportive frame with mesh netting. A turtle hoist can be used to bring turtles on board that cannot be boated using a dipnet or collapsible hoop net. The two sizes that meet the design standards are described in paragraphs (c)(5)(i)(E)(3)(i) and (ii) of this section. The size of the turtle hoist used should match the size of turtles encountered.

(i) Small turtle hoist. The frame must be capable of supporting at least 100 lb (45.36 kg), with a minimum inside diameter of 31 inches (78.74 cm) to accommodate turtles up to 3 ft (91.44 cm) straight carapace length. This frame can be hinged or otherwise designed so that it can be folded for ease of storage as long as it can be quickly reassembled. If the frame is designed to fold or break down for storage, the hardware must be self-contained (e.g., barrel bolts on both sides to lock down frame with no loose pieces like through bolts and nuts), and there must be no sharp edges. The shape of the frame does not matter (e.g., round, square, rectangular, or a “U-shaped” or “J-shaped” basket) as long as it meets the required specifications and securely contains the turtle. The frame may be constructed of heavy-duty stainless steel tubing welded into shape or polyvinyl chloride (PVC) pipe (recommended 2-inch (5.08-cm) diameter with a required minimum strength of Schedule 40) connected and glued at the corners using 90° elbow fittings. PVC pipes can be drilled to facilitate water drainage for ease of hauling. A shallow bag net with mesh openings not to exceed 3 × 3 inches (7.62 × 7.62 cm) (bar measure) must be securely affixed to the frame, and lines (e.g., polypropylene, nylon, polyester) must be securely attached to each corner to control and retrieve the frame and net. The lines can be operated using a pulley system if available on the vessel. No rigid extended reach handle is needed on this type of net, although the rope handle length must be 6 ft (1.83 m) or 150 percent of freeboard height, whichever is greater.

(ii) Large turtle hoist. The large turtle hoist must be capable of lifting a minimum of half a ton. The structure of the hoist must consist of three circular aluminum bar rings (top, middle, and bottom) connected with mesh and spokes. The hoist should be designed so that when on board, the turtle is suspended above the deck on a platform of mesh netting (8 mm, 6.5 inches (16.51 cm) stretch knotless 600-ply polyethylene netting) stretched across the middle ring. The turtle should be contained within a webbing fence (at least 18 inches (45.72 cm) high) which is supported by the top and middle rings and made of 3 mm, 4.7 inches (11.94 cm) stretch mesh braided polyethylene webbing, and wrapped along the top ring with ½-inch (1.27-cm) polypropylene rope. The top and middle rings (1¾ inch (4.45 cm) 50 series aluminum round bar) should be 7 ft and 6 inches (2.29 m) in diameter. The bottom ring (1½ inches (3.81 cm) 50 series aluminum round bar) should be 4 ft (1.22 m) in diameter. The middle and bottom rings are connected using 12 spoke braces (approximately 23 inches (58.42 cm) long, 1 inch (2.54 cm) round 50 series aluminum round bar or 6061 T6 1 inch (2.54 cm) Schedule 40 pipe) angled at approximately 25° and welded in place with an appropriate welding wire (5052, 6061 or 3003 wire). Rubber cookies (8 × 2½ inches (20.32 × 6.35 cm), 4 per each of 12 sections) may be used on the middle ring to facilitate rolling the hoist up the side of the vessel and to cushion impact of the hoist against the side of the vessel. When deployed in rough seas, the hoist should be held to the side of the vessel to prevent swinging and collision with the vessel hull. A 3- or 4-point bridle is attached to the top ring using pair links and three-quarter-inch (1.91-cm) nylon 3-strand line, and a hydraulic lift is used to bring hoist aboard.

(F) Cushion/support device for boated turtles. Each vessel is required to carry a device that effectively cushions and supports a sea turtle while it is on board. The device used must be appropriately sized to support the sea turtle encountered. The device must be puncture proof (e.g., no inner tubes, pool toys) and cannot be a primary safety device (e.g., primary life ring or life jacket dedicated to personnel on board). Examples that meet current design standards include:

(1) A standard automobile tire. A standard (not from a truck or heavy equipment) passenger vehicle tire not mounted on a rim and free of exposed steel belts, is effective for supporting a turtle in an upright orientation while it is on board. An assortment of sizes is recommended to accommodate a range of turtle sizes. If the turtle is too large for the tire, it must be contained and supported on an alternative cushioned surface.

(2) Boat cushion. A standard boat cushion can effectively support smaller turtles.

(3) Large turtle hoist. This style is recommended for supporting large turtles such as leatherbacks, which need a supportive platform while on board. The large turtle hoist described in paragraph (c)(5)(i)(E)(3)(ii) of this section satisfies this requirement.

(G) Short-handled dehooker for internal hooks. One short-handled device, meeting the minimum design standards, is required on board for removing hooks that are internal or ingested. This dehooker is designed to remove internal hooks from boated sea turtles. It can also be used on external hooks or hooks in the front of the mouth. Minimum design standards are as follows:

(1) Hook removal device. Unless otherwise noted, all components must be made of marine-grade stainless steel (316 L or 304 L). If utilizing a wire-style dehooker (e.g., a pigtail or J-style dehooker), the hook removal device must be constructed of three-sixteenths to five-sixteenths of an inch (4.76-7.94 mm) marine-grade stainless steel (316 L or 304 L) rod and have a dehooking end no wider than 1⅞ inches (4.76 cm) total width. The end must allow the hook to be secured and the point to be shielded without re-engaging during the removal process. It may not have any unprotected terminal points or sharp edges, as this could cause injury to the esophagus during hook removal. A sliding PVC bite block must be used to protect the beak and facilitate hook removal if the turtle bites down on the dehooking device. The bite block should be constructed of a three-quarter- to 1-inch (1.91-2.54 cm) inside diameter high-impact plastic cylinder (e.g., Schedule 80 PVC) that is 4-6 in (10.16-15.24 cm) long to allow for at least 5 inches (12.7 cm) of slide along the shaft. The device must be of a size appropriate to secure the range of hook sizes and styles used in the pelagic longline fishery targeting swordfish and tuna.

(2) Handle length. The handle must be 16-24 inches (40.64-60.96 cm) in length, with a tube T-handle, wire loop handle, or similar type of handle that is approximately 4-6 inches (10.16-15.24 cm) long.

(H) Short-handled dehooker for external hooks. One short-handled dehooker for external hooks, meeting the minimum design standards, is required on board. The short-handled dehooker for internal hooks required to comply with paragraph (c)(5)(i)(G) of this section will also satisfy this requirement. Minimum design standards are as follows:

(1) Hook removal device. Marine-grade stainless steel (316 L or 304 L) must be used for all components. If utilizing a wire-style dehooker (e.g., a pigtail or J-style dehooker), the dehooker must be constructed of three-sixteenths to five-sixteenths of an inch (4.76-7.94 mm) marine-grade stainless steel (316 L or 304 L) and have a dehooking end no wider than 1⅞ inches (4.76 cm) total width. The design must be such that a hook can be rotated out without pulling it out at an angle. The dehooking end must be blunt, and all edges rounded. The device must be of a size appropriate to secure the range of hook sizes and styles used in the pelagic longline fishery targeting swordfish and tuna.

(2) Handle length. The handle must be 16-24 inches (40.64-60.96 cm) long with a tube T-handle, wire loop handle, or similar type of handle that is approximately 4-6 inches (10.16-15.24 cm) long.

(I) Long-nose or needle-nose pliers. One pair of long-nose or needle-nose pliers is required to be on board. Such pliers must be a minimum of 11 inches (27.94 cm) in length, and should be constructed of stainless steel material or other material designed to resist corrosion during exposure to saltwater. The pliers can be used to remove embedded hooks from the turtle's flesh or hooks in the front of the mouth. The pliers are also useful for holding PVC splice couplings in place as mouth openers.

(J) Bolt cutters. One pair of bolt cutters is required on board. Such bolt cutters must be a minimum of 14 inches (35.56 cm) in total length, with a minimum of 4 inches (10.16 cm) long blades that are a minimum of 2¼ inches (5.72 cm) wide, when closed, and with 10- to 13-inch (25.40- to 33.02-cm) long handles. Such bolt cutters must be able to cut hard metals, such as stainless or carbon steel hooks, up to one-quarter of an inch (6.35 mm) in diameter, and they must be capable of cutting through the hooks used on a vessel. The required bolt cutters may be used to cut hooks to facilitate their removal. They should be used to cut off the eye or point of a hook, so that it can safely be pushed through a sea turtle without causing further injury. They should also be used to cut off as much of the hook as possible, when the remainder of the hook cannot be removed.

(K) Monofilament line cutters. One pair of monofilament line cutters is required on board. Such monofilament line cutters must be a minimum of 6 inches (15.24 cm) in overall length. The blades must be 1 inch (2.54 cm) in length and five-eighths inch (1.59 cm) wide, when closed, and are recommended to be coated with Teflon (a trademark owned by E.I. DuPont de Nemours and Company Corp.). The line cutters must be used to remove netting, entangling line, or fishing line as close to the eye of the hook as possible, if the hook is swallowed or cannot be removed safely.

(L) Mouth openers/mouth gags. Required mouth openers and mouth gags are used to open sea turtle mouths, and to keep them open when removing internal hooks from boated turtles. They must allow access to the hook or line without causing further injury to the turtle. Design standards are included in the item descriptions. At least 2 of the 7 different types of mouth openers/gags described below are required on board the vessel:

(1) A block of hard wood. Placed in the corner of the jaw, a block of hard wood may be used to gag open a turtle's mouth. A smooth block of hard wood of a type that does not splinter (e.g., maple) with rounded edges must be sanded smooth. The dimensions should be appropriately sized for the size of turtles that may be caught or approximately 10 × 0.75 × 0.75 inches (25.40 × 1.91 × 1.91 cm). A long-handled, wire shoe brush with a wooden handle, and with the wires removed, is an inexpensive, effective and practical mouth-opening device that meets these requirements. A wooden hammer handle (without the head attached) may also be suitable, provided it is made from wood that does not splinter under pressure (e.g., ash, maple).

(2) A set of three canine mouth gags. Canine mouth gags are highly recommended to hold a turtle's mouth open, because the gag locks into an open position to allow for hands-free operation after it is in place. A set of canine mouth gags must include one of each of the following sizes: small (5 in; 12.7 cm), medium (6 in; 15.24 cm), and large (7 in; 17.78 cm). They must be constructed of stainless steel.

(3) A set of two sturdy dog chew bones. Placed in the corner of a turtle's jaw, canine chew bones are used to gag open a sea turtle's mouth. Required canine chews must be constructed of durable nylon, zylene resin, or thermoplastic polymer, and strong enough to withstand biting without splintering. To accommodate a variety of turtle beak sizes, a set must include one large (5.5-8 inches (13.97-20.32 cm) in length) and one small (3.5-4.5 inches (8.89-11.43 cm) in length) canine chew bone.

(4) A set of two rope loops covered with hose. A set of 2 rope loops covered with a piece of hose or flexible tubing can be used as a mouth opener, and to keep a turtle's mouth open during hook and/or line removal. A required set consists of two 3-ft (91.44-cm) lengths of poly braid rope (three-eighths of an inch (9.53 mm) in diameter is suggested), each covered with an 8-inch (20.32-cm) section of half-inch (1.27-cm) or three-quarter-inch (1.91-cm) light-duty garden hose or flexible tubing, and each tied into a loop. The upper loop of rope covered with hose is secured on the upper beak to give control with one hand, and the second piece of rope covered with hose is secured on the lower beak to give control with the user's foot.

(5) A hank of rope. Placed in the corner of a turtle's jaw, a hank of rope can be used to gag open a sea turtle's mouth. A 6-ft (1.83-m) lanyard with a minimum of three-sixteenths-inch (4.76-mm) braided soft rope may be folded to create a hank, (or a coiled or looped bundle), of rope. Any size braided soft rope is allowed; however, it must create a hank of approximately 2-4 inches (5.08-10.16 cm) in thickness.

(6) A set of four PVC splice couplings. PVC splice couplings can be positioned inside a turtle's mouth to allow access to the back of the mouth for hook and line removal. They are to be held in place with the needle-nose pliers. To ensure proper fit and access, a required set must consist of the following Schedule 40 PVC splice coupling sizes: 1 inch (2.54 cm), 1¼ inches (3.18 cm), 1½ inches (3.81 cm), and 2 inches (5.08 cm).

(7) A large avian oral speculum. A large avian oral speculum provides the ability to hold a turtle's mouth open and to control the head with one hand, while removing a hook with the other hand. The avian oral speculum must be 9 inches (22.86 cm) long and constructed of three-sixteenths-inch (4.76-mm) wire diameter surgical stainless steel (Type 304). It must be covered with 8 inches (20.32 cm) of clear vinyl tubing (five-sixteenths-inch (7.94-mm) outside diameter, three-sixteenths-inch (4.76-mm) inside diameter), friction tape, or similar material to pad the surface.

(M) * * *

(1) Turtle tether and extended reach handle. Approximately 15-20 ft (4.57-6.10 m) of half-inch (1.27 cm) hard lay negative buoyancy line or similar is used to make an approximately 30-inch (76.2-cm) loop to slip over the flipper. The line is fed through a three-quarter-inch (1.91-cm) inside diameter fair lead, eyelet, or eyebolt at the working end of a pole and through a three-quarter-inch (1.91-cm) eyelet or eyebolt in the midsection. A half-inch (1.27-cm) quick release cleat holds the line in place near the end of the pole. A final three-quarter-inch (1.91-cm) eyelet or eyebolt should be positioned approximately 7 inches (17.78 cm) behind the cleat to secure the line, while allowing a safe working distance to avoid injury when releasing the line from the cleat. The line must be securely fastened to an extended reach handle or pole with a minimum length equal to, or greater than, 150 percent of the height of the vessel's freeboard, or a minimum of 6 ft (1.83 m), whichever is greater. There is no restriction on the type of material used to construct this handle, as long as it is sturdy. The handle must include a tag line to attach the tether to the vessel to prevent the turtle from breaking away with the tether still attached.

(2) Ninja sticks and extended reach handles. Approximately 30-35 ft (9.14-10.67 m) of one-half to five-eighths of an inch (1.27-1.59 cm) of soft lay polypropylene line, nylon line or similar line is fed through 2 PVC conduit, fiberglass, or similar sturdy poles and knotted using an overhand (recommended) knot at the end of both poles or otherwise secured. There should be approximately 18-24 inches (45.72-60.96 cm) of exposed rope between the poles to be used as a working surface to capture and secure the flipper. Knot the line at the ends of both poles to prevent line slippage if they are not otherwise secured. The remaining line is used to tether the apparatus to the boat unless an additional tag line is used. Two lengths of sunlight resistant three-quarter-inch (1.91-cm) schedule 40 PVC electrical conduit, fiberglass, aluminum, or similar material should be used to construct the apparatus with a minimum length equal to, or greater than, 150 percent of the height of the vessel's freeboard, or 6 ft (1.83 m), whichever is greater.

(ii) * * *

(A) Sea turtle bycatch mitigation gear and protocols. Sea turtle bycatch mitigation gear, as required by paragraphs (c)(5)(i)(A) through (D) of this section, must be used to disengage any hooked or entangled sea turtles that cannot be brought on board. Sea turtle bycatch mitigation gear, as required by paragraphs (c)(5)(i)(E) through (M) of this section, must be used to facilitate access, safe handling, disentanglement, and hook removal or hook cutting of sea turtles that can be brought on board, where feasible. Sea turtles must be handled, and bycatch mitigation gear must be used, in accordance with the careful release protocols and handling/release guidelines specified in paragraphs (c)(5)(ii)(B) and (C) of this section, and in accordance with the onboard handling and resuscitation requirements specified in 50 CFR 223.206(d)(1).

(B) Boated turtles. When practicable, active and unresponsive sea turtles must be brought on board, with a minimum of injury, using a dipnet, collapsible hoop net, or turtle hoist, as required by paragraph (c)(5)(i)(E) of this section. All turtles less than 3 ft (91.44 cm) carapace length must be boated, if sea conditions permit. Turtles must be lifted and carried by holding the front and back of the carapace (shell) or by holding the shell by both sides. A turtle must be cradled while holding the shell and base of the flippers. A turtle must never be lifted or dragged by the flippers when it is brought on board, handled on deck, or released.

(1) Preparation for gear and hook removal. A boated turtle must be placed on a device that effectively cushions and supports a sea turtle while it is on board, as described in paragraph (c)(5)(i)(F) of this section. The turtle must be in an upright orientation to immobilize it and facilitate gear removal. Then, it should be determined if the hook can be removed without causing further injury.

(2) External hook removal. All externally embedded hooks must be removed, unless hook removal would result in further injury to the turtle. No attempt to remove a hook should be made if it has been swallowed and the insertion point is not visible, or if it is determined that removal would result in further injury.

(3) Irremovable hook protocol. If a hook cannot be removed, as much line as possible must be removed from the turtle using monofilament cutters as required by paragraph (c)(5)(i)(K) of this section, and the hook should be cut as close as possible to the insertion point before releasing the turtle, using bolt cutters as required by paragraph (c)(5)(i)(J) of this section.

(4) Removable hook protocol. If a hook can be removed, an effective technique may be to cut off either the barb, or the eye, of the hook using bolt cutters, and then to slide the hook out. When the hook is visible in the front of the mouth, a mouth-opener, as required by paragraph (c)(5)(i)(L) of this section, may facilitate opening the turtle's mouth and a gag may facilitate keeping the mouth open. Short-handled dehookers for internal hooks, long-nose pliers, or needle-nose pliers, as required by paragraphs (c)(5)(i)(G) through (I) of this section, should be used to remove visible hooks from the mouth that have not been swallowed, as appropriate.

(5) Gear removal. As much gear as possible must be removed from the turtle without causing further injury prior to its release. Refer to the careful release protocols and handling/release guidelines required in this paragraph (c)(5)(ii)(B), and the handling and resuscitation requirements specified in 50 CFR 223.206(d)(1), for additional information.

(C) Non-boated turtles. If a sea turtle is too large, or hooked in a manner that precludes safe boating without causing further damage or injury to the turtle, sea turtle bycatch mitigation gear required by paragraphs (c)(5)(i)(A) through (D) of this section must be used to disentangle sea turtles from fishing gear and disengage any hooks, or to clip the line and remove as much line as possible from a hook that cannot be removed, prior to releasing the turtle, in accordance with the protocols specified in this paragraph.

(1) Preparation for hook removal. Non-boated turtles should be brought close to the boat and provided with time to calm down. Then, it must be determined whether the hook can be removed without causing further injury. A front flipper or flippers of the turtle must be secured with an approved turtle control device from the list specified in paragraph (c)(5)(i)(M) of this section.

(2) Hook removal protocol. All externally embedded hooks must be removed, unless hook removal would result in further injury to the turtle. No attempt should be made to remove a hook if it has been swallowed, or if it is determined that removal would result in further injury. If the hook cannot be removed and/or if the animal is entangled, as much line as possible must be removed prior to release, using a line cutter as required by paragraph (c)(5)(i)(K) of this section. If the hook can be removed, it must be removed using a long-handled dehooker as required by paragraph (c)(5)(i) of this section.

(3) Gear removal. Without causing further injury, as much gear and line as possible must be removed from the turtle prior to its release. Refer to the careful release protocols and handling/release guidelines required in this paragraph (c)(5)(ii)(C), and the handling and resuscitation requirements specified in 50 CFR 223.206(d)(1) for additional information.

(iii) Gear modifications. The following measures are required of vessel owners and operators to reduce the incidental capture and mortality of sea turtles:

* * * * *

(d) * * *

(2) The owner and operator of a vessel required to be permitted under this part and that has bottom longline gear on board must undertake the following bycatch mitigation measures:

* * * * *

[FR Doc. 2024-24870 Filed 10-28-24; 8:45 am]

BILLING CODE 3510-22-P